DEPARTMENT OF TRANSPORTATION

Federal Aviation Administration

14 CFR Part 71

[Docket No. FAA-2016-9119; Airspace Docket No. 16-ANM-15]

Amendment of Class E Airspace; Cedar City, UT

AGENCY: Federal Aviation Administration (FAA), DOT.

ACTION: Final rule, technical amendment.

SUMMARY: This action amends the legal descriptions for Class E surface airspace and Class E airspace upward from 700 feet above the surface to correct the airport name for Cedar City Regional Airport (formerly Cedar City Municipal Airport), Cedar City, UT, and amends the airport reference point (ARP) geographic coordinates to coincide with the FAA's aeronautical database. This action also changes the name of the VHF Omnidirectional Range Distance Measuring Equipment (VOR/DME) noted in the Class E surface area airspace legal description to the Enoch VOR/DME (formerly Cedar City VOR/DME). These changes do not affect the charted boundaries or operating requirements of the airspace.

DATES: Effective 0901 UTC, March 2, 2017. The Director of the Federal Register approves this incorporation by reference action under title 1, Code of Federal Regulations, part 51, subject to the annual revision of FAA Order 7400.11 and publication of conforming amendments.

ADDRESSES: FAA Order 7400.11A, Airspace Designations and Reporting Points, and subsequent amendments can be viewed on line at http://www.faa.gov/air_traffic/publications/. For further information, you can contact the Airspace Policy Group, Federal Aviation Administration, 800 Independence Avenue SW., Washington, DC 20591; telephone: 202-267-8783. The Order is also available for inspection at the National Archives and Records Administration (NARA). For information on the availability of this material at NARA, call 202-741-6030, or go to http://www.archives.gov/federal_register/code_of_federal-regulations/ibr_locations.html.

FAA Order 7400.11, Airspace Designations and Reporting Points, is published yearly and effective on September 15.

FOR FURTHER INFORMATION CONTACT: Robert LaPlante, Federal Aviation Administration, Operations Support Group, Western Service Center, 1601 Lind Avenue SW., Renton, WA 98057; telephone (425) 203-4566.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class E airspace descriptions at Cedar City Regional Airport, Cedar City, UT.

History

The FAA identified that Cedar City Regional Airport and the geographic coordinates of the airport's ARP listed in the Class E airspace legal descriptions above are not coincidental with the FAA's aeronautical database. Also, in accordance with FAA policy, the FAA has changed the Cedar City VOR/DME name to the Enoch VOR/DME, to avoid any potential confusion resulting from an off-airport navigation aid with the same name as the associated airport.

Class E airspace designations are published in paragraph 6002 and 6005, respectively, of FAA Order 7400.11A dated August 3, 2016, and effective September 15, 2016, which is incorporated by reference in 14 CFR part 71.1. The Class E airspace designations listed in this document will be published subsequently in the Order.

Availability and Summary of Documents for Incorporation by Reference

This document amends FAA Order 7400.11A dated August 3, 2016, and effective September 15, 2016, which is incorporated by reference in 14 CFR part 71.1. FAA Order 7400.11A is publicly available as listed in the ADDRESSES section of this document. FAA Order 7400.11A lists Class A, B, C, D, and E airspace areas, air traffic service routes, and reporting points.

The Rule

This action amends the legal descriptions for Class E surface area airspace and Class E airspace upward from 700 feet above the surface to correct the airport name to Cedar City Regional Airport, Cedar City, UT, (formerly Cedar City Municipal Airport), and geographic coordinates from (lat. 37°42′06″ N., long. 113°05′53″ W.) to (lat. 37°42′03″ N., long. 113°05′56″ W.) to coincide with the FAA's aeronautical database. This action also corrects the navigation aid noted in the Class E surface area airspace legal description from the Cedar City VOR/DME to the Enoch VOR/DME. This is an administrative change and does not affect the boundaries, altitudes, or operating requirements of the airspace, therefore, notice and public procedure under 5 U.S.C. 553(b) is unnecessary.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exists that warrant preparation of an environmental assessment.

Lists of Subjects in 14 CFR Part 71

Airspace, Incorporation by reference, Navigation (Air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, effective September 15, 2016, is amended as follows:

Paragraph 6002. Class E Airspace Designated as Surface Areas.

* * * * *

ANM UT E2 Cedar City, UT [Modified]

Cedar City Regional Airport, UT

(Lat. 37°42′03″ N., long. 113°05′56″ W.)

Enoch VOR/DME

(Lat. 37°47′14″ N., long. 113°04′06″ W.)

Meggi LOM

(Lat. 37°47′28″ N., long. 113°01′17″ W.)

Within a 4.2-mile radius of Cedar City Regional Airport, and within 1.8 miles each side of the Enoch VOR/DME 195° radial extending from the 4.2-mile radius to the VOR/DME, and within 1.8 miles each side of Meggi LOM 214° bearing extending from the 4.2-mile radius to the LOM.

Paragraph 6005. Class E Airspace Areas Extending Upward from 700 feet or More Above the Surface of the Earth.

* * * * *

ANM UT E5 Cedar City, UT [Modified]

Cedar City Regional Airport, UT

(Lat. 37°42′03″ N., long. 113°05′56″ W.)

That airspace extending upward from 700-feet above the surface bounded by a line beginning at lat. 38°03′00″ N., long. 113°13′30″ W.; to lat. 38°05′30″ N., long. 112°58′30″ W.; to lat. 37°58′30″ N., long. 112°45′30″ W.; to lat. 37°45′00″ N., long. 112°56′45″ W.; to lat. 37°47′30″ N., long. 113°15′00″ W.; thence to point of beginning. That airspace extending upward from 1,200-feet above the surface bounded by a line beginning at lat. 38°00′00″ N., long. 113°45′30″ W.; to lat. 38°19′00″ N., long. 112°51′30″ W.; to lat. 37°58′32″ N., long. 112°38′00″ W.; to lat. 37°37′00″ N., long. 112°53′30″ W.; to lat. 37°38′15″ N., long. 113°22′18″ W.; thence to point of origin; and excluding that airspace within Federal airways; the Midford, UT, and St. George, UT, Class E airspace areas.

Issued in Seattle, Washington, on December 14, 2016.
Tracey Johnson,
Manager, Operations Support Group, Western Service Center.

[FR Doc. 2016-30649 Filed 12-27-16; 8:45 am]

BILLING CODE 4910-13-P